DEPARTMENT OF HEALTH AND HUMAN SERVICES

Health Resources and Services Administration

Agency Information Collection Activities: Proposed Collection: Public Comment Request; Maternal, Infant, and Early Childhood Home Visiting Program Fiscal Year (FY) 2015, FY 2016, FY 2017 Non-Competing Continuation Progress Report for Formula Grant

AGENCY: Health Resources and Services Administration (HRSA), Department of Health and Human Services.

ACTION: Notice.

SUMMARY: In compliance with the requirement for opportunity for public comment on proposed data collection projects (Section 3506(c)(2)(A) of the Paperwork Reduction Act of 1995), HRSA announces plans to submit an Information Collection Request (ICR), described below, to the Office of Management and Budget (OMB). Prior to submitting the ICR to OMB, HRSA seeks comments from the public regarding the burden estimate, below, or any other aspect of the ICR.

DATES: Comments on this ICR should be received no later than January 3, 2017.

ADDRESSES: Submit your comments to paperwork@hrsa.gov or mail the HRSA Information Collection Clearance Officer, Room 14N-39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Maternal, Infant, and Early Childhood Home Visiting Program Fiscal Year (FY) 2015, FY 2016, FY 2017 Non-Competing Continuation Progress Report for Formula Grant.

OMB No. 0915-0355—Revision.

Abstract: The Federal Home Visiting Program (also known as the Maternal, Infant, and Early Childhood Home Visiting Program), administered by HRSA in close partnership with the Administration for Children and Families, supports voluntary, evidence-based home visiting services during pregnancy and to parents with young children up to kindergarten entry. Formula grant awards support Federal Home Visiting Program grantees in meeting statutory and programmatic objectives for implementing high quality home visiting programs and coordinating with comprehensive statewide early childhood systems. All 50 states, the District of Columbia, 5 territories, and applicable nonprofit organizations are eligible to receive formula grant awards. There are currently 56 entities with formula grant awards.

Need and Proposed Use of the Information: This information collection is requested for eligible entities to submit non-competing continuation progress reports on an annual basis.

On March 23, 2010, the President signed into law the Patient Protection and Affordable Care Act (ACA). Section 2951 of the ACA amended Title V of the Social Security Act by adding a new section, 511, which authorized the creation of the Federal Home Visiting Program. A portion of funding under this program is awarded to participating states and eligible jurisdictions using a funding formula. Formula funding is the main funding mechanism used by HRSA to provide support to eligible entities for the provision of voluntary high-quality home visiting services to families living in at-risk communities.

The information collected will be used to review grantee progress on proposed project plans to assess whether the project is performing adequately to achieve the goals and objectives that were previously approved. This report will also provide implementation plans for the upcoming year that will result in a high-quality project. Non-competing continuation progress reports are submitted via HRSA's Electronic Handbook.

Failure to collect this information would impair federal monitoring and oversight of the use of grant funds. Grantees are required to provide a performance narrative in the following sections: Project Identifier Information; Accomplishments and Barriers, Home Visiting Program Goals and Objectives; Update on the Home Visiting Program Promising Approach (as applicable), Implementation of the Home Visiting Program in Targeted At-Risk Communities; Progress Towards Meeting Legislatively-Mandated Reporting on Benchmark Areas; Home Visiting Quality Improvement Efforts, and; Updates on the Administration of the Home Visiting Program.

The purpose of this revision is to include standardized tables and instructions to assist grantees in completing the required sections. Reporting progress, in part, by using these tables will assist federal staff to assess whether the grant activities align with statutory and programmatic requirements and objectives and will result in the implementation of a high-quality project. To account for the additional tables included in this revision request, the estimated annualized burden hours have been revised to reflect 80 hours per response. The previous estimate was 42 hours per response.

Likely Respondents: Eligible entities under the Social Security Act, Title V, Section 511(c) (42 U.S.C., Section 711(c)), as added by Section 2951 of the ACA (Pub. L. 111-148)

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Formula Non-Competing Continuation Progress Report | 56 | 1 | 56 | 80 | 4,480
Total | 56 |  | 56 |  | 4,480

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2016-26284 Filed 10-31-16; 8:45 am]

BILLING CODE 4165-15-P